DEPARTMENT OF VETERANS AFFAIRS

Increase in Maximum Tuition and Fee Amounts Payable under the Post-9/11 GI Bill

AGENCY: Department of Veterans Affairs (VA).

ACTION: Notice.

SUMMARY: The purpose of this notice is to inform the public of the increase in the Post-9/11 GI Bill maximum tuition and fee amounts payable and the increase in the amount used to determine an individual's entitlement charge for reimbursement of a licensing, certification, or national test for the 2012-2013 and 2013-2014 academic years.

FOR FURTHER INFORMATION CONTACT: Tiffany N. Jones, Management and Program Analyst (225C), Education Service, Veterans Benefits Administration, Department of Veterans Affairs, 810 Vermont Ave. NW., Washington, DC 20420, (202) 461-9837.

SUPPLEMENTARY INFORMATION: For the 2011-2012 academic year, the Post-9/11 GI Bill allowed VA to pay the actual net cost of tuition and fees not to exceed the in-State amounts for students pursuing training at public schools; $17,500 for students training at private and foreign schools; $10,000 for students training at flight schools; and $8,500 for students training at correspondence schools. Additionally, the entitlement charge for individuals in receipt of reimbursement for taking a licensing, certification, or national test was one month (rounded to the nearest whole month) for each $1,460.00 received.

Sections 3313, 3315, and 3315A of title 38, United States Code (U.S.C.), direct VA to increase the maximum tuition and fee and entitlement charge amounts each academic year (beginning August 1) based on the most recent increase determined under title 38 U.S.C. 3015(h). Increases determined under 38 U.S.C. 3015(h) are effective October 1 of each calendar year. As such, the increase determined under 38 U.S.C. 3015(h), which was effective October 1 of the previous calendar year, will be the most recent increase in rates at the beginning of each academic year.

2012-2013 Academic Year Maximum Tuition and Fee Amounts

As of August 1, 2012 (beginning of the 2012-2013 academic year), the most recent increase determined under 38 U.S.C. 3015(h) was a 3.3 percent increase, which was effective October 1, 2011. VA calculated the maximum tuition and fee and entitlement charge amounts listed below for training pursued under the Post-9/11 GI Bill that begins after July 31, 2012, and before August 1, 2013, using the 3.3 percent increase.

2012-2013 Academic Year
Type of school | Actual net cost of tuition and fees not to exceed
Post-9/11 GI Bill Maximum Tuition and Fee Amounts
Public | In-State/Resident Charges.
Private/Foreign | $18,077.50.
Vocational Flight | $10,330.00.
Correspondence | $8,780.50.
Post 9/11 Entitlement Charge Amount for Tests
Licensing and Certification Tests | VA will charge one month entitlement (rounded to the nearest whole month) for each $1,508.18 received.
National Tests |

2013-2014 Academic Year Maximum Tuition and Fee Amounts

As of August 1, 2013 (beginning of the 2013-2014 academic year), the 6.2 percent increase determined under 38 U.S.C. 3015(h), which was effective October 1, 2012, will be the most recent increase. VA calculated the maximum tuition and fee and entitlement charge amounts listed below for training pursued under the Post-9/11 GI Bill that begins after July 31, 2013, and before August 1, 2014, using the 6.2 percent increase.

2013-2014 Academic Year
Type of school | Actual net cost of tuition and fees not to exceed
Post-9/11 GI Bill Maximum Tuition and Fee Amounts
Public | In-State/Resident Charges.
Private/Foreign | $19,198.31.
Vocational Flight | $10,970.46.
Correspondence | $9,324.89.
Post 9/11 Entitlement Charge Amount for Tests
Licensing and Certification Tests | VA will charge one month entitlement (rounded to the nearest whole month) for each $1,601.69 received.
National Tests |

Approved: December 18, 2012.
John R. Gingrich,
Chief of Staff, Department of Veterans Affairs.

[FR Doc. 2012-30945 Filed 12-21-12; 8:45 am]

BILLING CODE 8320-01-P